DEPARTMENT OF COMMERCE

Foreign-Trade Zones Board

[B-34-2023]

Foreign-Trade Zone (FTZ) 72, Notification of Proposed Production Activity; Dorel Juvenile Group Inc.; (Child Strollers, Walkers, and Car Seats); Columbus, Indiana

Dorel Juvenile Group Inc. submitted a notification of proposed production activity to the FTZ Board (the Board) for its facility in Columbus, Indiana within Subzone 72W. The notification conforming to the requirements of the Board's regulations (15 CFR 400.22) was received on May 15, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include car seats (booster; convertible; infant), child car seat head rest assemblies, infant walkers, and child strollers (duty rate ranges from duty-free to 4.4%).

The proposed foreign-status materials and components include: plastic car seat bags; pads (car seat; walker; stroller); car seat components (plastic components (webbing guide; footrest assembly; snack tray assembly; hinge spacer; belt hook fastener; harness hook; headrest gear; torso adjuster button; cup holder; armrest assembly; base recline handle; canopy hoop; linkage assembly; cover for infant carrier base release cables); child car seat level indicators; metal components (headrest locking plate and two plastic pins; anti-rebound bar; washer plate; axle and plastic axle sleeve); rubber anti-skid runners; button adjustment assemblies for infant carrier handles; child car seat crotch assemblies; nylon components (strap with metal latch for car seat installation; harness with locking plastic buckle; harness strap; tether; strap with latch assembly); lap belts with nylon straps and plastic buckles; central front adjusters with infant splitter plate; steel rods); infant car seats; wheel and toy attachments for infant walkers; plastic resin; nylon components (belts with plastic lanyard guides; webbing; thread); magnetic chest clips; steel components (locking clip; S clip; C plate headrest gear); plastic injection molds and components (ejector pin; ejector sleeve; hot runner system); electronic car seat cooling systems; paper and paperboard labels; cardboard displays; and, metal screws (duty rate ranges from duty-free to 11.4%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is July 10, 2023.

A copy of the notification will be available for public inspection in the “Online FTZ Information System” section of the Board's website.

For further information, contact Juanita Chen at juanita.chen@trade.gov.

Dated: May 24, 2023.
Camille R. Evans,
Acting Executive Secretary.

[FR Doc. 2023-11411 Filed 5-26-23; 8:45 am]

BILLING CODE 3510-DS-P